ENVIRONMENTAL PROTECTION AGENCY

[EPA-HQ-OPP-2015-0022 FRL-9949-89]

Pesticide Product Registration; Receipt of Applications for New Uses; Correction and Reopening of Comment Period

AGENCY: Environmental Protection Agency (EPA).

ACTION: Notice; correction and reopening of comment period.

SUMMARY: EPA issued a notice in the Federal Register of July 22, 2016 (81 FR 47795) concerning Pesticide Product Registration; Receipt of Applications for New Uses. The notice inadvertently identified the applications listed as being new active ingredients rather than new uses. This document corrects that error and also reopens the comment period for an additional 15 days.

DATES: Comments, identified by the docket identification (ID) listed in the body of this document, must be received on or before September 19, 2016.

ADDRESSES: Follow the detailed instructions as provided in the Federal Register document of July 22, 2016 (81 FR 47795).

FOR FURTHER INFORMATION CONTACT: Michael Goodis, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

The Agency included in the July 22, 2016, notice a list of those who may be potentially affected by this action.

B. How can I get copies of this document and other related information?

The docket for this action, identified by the following docket identification (ID) number: EPA-HQ-OPP-2015-0022 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

C. Why is the comment period being reopened?

This document reopens the public comment period for the Pesticide Product Registration; Receipt of Applications for New Uses notice, which was published in the Federal Register of July 22, 2016 (81 FR 47795) (FRL-9947-94). EPA is hereby reopening the comment period for 15 days because EPA has received applications to register new uses for pesticide products containing currently registered active ingredients. Pursuant to the provision of FIFRA section 3(c)(4)(7 U.S.C. 136a(c)(4)), EPA is hereby providing notice of receipt and opportunity to comment on these applications. Notice of receipt of these applications does not imply a decision by the Agency on these applications.

II. What does this correction do?

FR Doc. 2016-17407 published in the Federal Register of July 22, 2016, (81 FR 47795) (FRL-9941-24) is corrected as follows:

First, on page 47795, in the first column, under SUMMARY, the first sentence is corrected to read “EPA has received applications to register new uses for pesticide products containing currently registered active ingredients.”

Second, on page 47795, in the second column under the heading II. Registration Applications, the first sentence is corrected to read “EPA has received applications to register new uses for pesticide products containing currently registered active ingredients.”

Authority: 7 U.S.C. 136 et seq.

Dated: August 19, 2016.
Daniel J. Rosenblatt,
Acting Director, Registration Division, Office of Pesticide Programs.

[FR Doc. 2016-21220 Filed 9-1-16; 8:45 am]

BILLING CODE 6560-50-P